DEPARTMENT OF LABOR

Office of Workers' Compensation Programs

[OMB Control No. 1240-0NEW]

Proposed Information Collection; Claim for Consequential Illness Benefits Under the Energy Employees Occupational Illness Compensation Program Act (EE-1A)

AGENCY: Division of Energy Employees Occupational Illness Compensation, Office of Workers' Compensation Programs (DEEOIC), Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the OWCP/DEEOIC is soliciting comments on the information collection for Energy Employees Occupational Illness Compensation Program Act Form (EE-1A). The form is required to determine a claimant's eligibility for compensation and medical benefits under the Energy Employees Occupational Illness Compensation Program Act and is required to enable eligible claimants to receive benefits.

DATES: All comments must be received on or before April 15, 2024.

ADDRESSES: You may submit comment as follows. Please note that late, untimely filed comments will not be considered. Written/Paper Submissions: Submit written/paper submissions in the following way:

• Mail/Hand Delivery: Mail or visit DOL-OWCP/DEEOIC, Office of Workers' Compensation Programs, Division of Energy Employees Occupational Illness Compensation, U.S. Department of Labor, 200 Constitution Ave. NW, Room C-3510, Washington, DC 20210.

• Email: Send comments on this collection by email to suggs.anjanette@dol.gov and mention Form EE-1A in the subject line.

• Please use only one method of transmission for comments. OWCP/DEEOIC will post your comment as well as any attachments, except for information submitted and marked as confidential, in the docket at https://www.regulations.gov.

FOR FURTHER INFORMATION CONTACT: Anjanette Suggs, Office of Workers' Compensation Programs, Division of Energy Employees Occupational Illness Compensation, OWCP/DEEOIC, suggs.anjanette@dol.gov; (202) 354-9660 (voice).

SUPPLEMENTARY INFORMATION:

I. Background

The Office of Workers' Compensation Programs (OWCP) is the primary agency responsible for administration of the Energy Employees Occupational Illness Compensation Program Act of 2000, as amended (EEOICPA), 42 U.S.C. 7384 et seq. EEOICPA provides for the payment of compensation to covered employees and, where applicable, survivors of deceased employees, who sustained either an “occupational illness” or a “covered illness” in the performance of duty for the Department of Energy and certain of its contractors and subcontractors. Following acceptance of an occupational illness or a covered illness, claimants can file for “consequential illnesses.”

A consequential illness is a newly diagnosed medical condition that a physician links to a previously accepted work-related illness. Currently, OWCP does not have a specific form that claimants can utilize to file a claim for consequential illnesses. The absence of a specific form to file claims for consequential illnesses has made it difficult for stakeholders to submit these types of claims and/or understand the process. The use of a standardized form, along with instructions, will provide claimants with a more precise filing mechanism. In addition, OWCP will be able to differentiate claims more easily for consequential illnesses from other claim types, increase the accuracy of claim tracking, and improve consequential illness claim adjudication timeliness. The collection of this information is authorized by 20 CFR 30.100, 30.103, 30.505 and 30.620.

The information collection in this Information Collection Request collects demographic, factual and medical information that OWCP needs to process claims for consequential illnesses. The collection in this ICR and the purpose is listed below. The associated regulatory authority for this ICR is listed above.

EE-1A—Claim for Consequential Illness Benefits Under the Energy Employees Occupational Illness Compensation Program Act will be used to initiate claims for consequential illnesses under the Act. It requests information about the employee/claimant, the specific medical diagnoses that they claim as consequential illness(es), and previous awards or settlements received in connection with the claimed consequential illnesses.

II. Desired Focus of Comments

OWCP is soliciting comments concerning the proposed information collection titled, “Claim for Consequential Illness Benefits, EE-1A. OWCP/DEEOIC is particularly interested in comments that:

• Evaluate whether the collection of information is necessary for the proper performance of the functions of the Agency, including whether the information has practical utility;

• Evaluate the accuracy of OWCP/DEEOIC's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OWCP/DEEOIC located at 200 Constitution Ave. NW, Room C-3510, Washington, DC 20210. Questions about the information collection requirements may be directed to the person listed in the FOR FURTHER INFORMATION section of this notice.

III. Current Actions

This information collection request concerns Energy Employees Occupational Illness Compensation Program Act Form EE-1A, Claim for Consequential Illness Benefits. OWCP/DEEOIC has estimated the data with respect to the number of respondents, responses, burden hours, and burden costs supporting this information collection request from the current claim statistics derived from OWCP/DEEOIC's case management system.

Type of Review: New collection.

Agency: Office of Workers' Compensation Programs, Division of Energy Employees Occupational Illness Compensation, OWCP/DEEOIC.

OMB Number: 1240-0NEW.

Affected Public: Individuals and Households.

Number of Respondents: 2,425.

Frequency: On Occasion.

Number of Responses: 4,850.

Annual Burden Hours: 810 hours.

Annual Respondent or Recordkeeper Cost: $1,120.35.

OWCP/DEEOIC Form EE-1A, Claim for Consequential Illness Benefits.

Comments submitted in response to this notice will be summarized in the request for Office of Management and Budget approval of the proposed information collection request; they will become a matter of public record and will be available at https://www.reginfo.gov.

Anjanette Suggs,
Certifying Officer.

[FR Doc. 2024-02995 Filed 2-13-24; 8:45 am]

BILLING CODE 4510-CR-P